Title 3—

The President

Memorandum of July 11, 2014

Delegation of Authority Pursuant to Section 4 of the Support for United States-Republic of Korea Civil Nuclear Cooperation Act

Memorandum for the Secretary of State

By the authority vested in me as President by the Constitution and the laws of the United States of America, including section 301 of title 3, United States Code, I hereby delegate to the Secretary of State the reporting functions conferred upon the President by section 4 of the Support for United States-Republic of Korea Civil Nuclear Cooperation Act (Public Law 113-81).

You are authorized and directed to publish this memorandum in the Federal Register.

THE WHITE HOUSE,

Washington, July 11, 2014

[FR Doc. 2014-17938

Filed 7-28-14; 8:45 am]

Billing code 4710-10